DEPARTMENT OF COMMERCE

National Oceanic and Atmospheric Administration

[I.D. 122700C]

Pacific Fishery Management Council; Public Meetings

AGENCY: National Marine Fisheries Service (NMFS), National Oceanic and Atmospheric Administration (NOAA), Commerce.

ACTION: Notice of public meetings.

SUMMARY: The Pacific Fishery Management Council's (Council) Coastal Pelagic Species Management Team (CPSMT) and Coastal Pelagic Species Advisory Subpanel (CPSAS) will hold work sessions, which are open to the public.

DATES: The CPSMT will meet on Tuesday, January 30, 2001, 10 a.m. to 5 p.m. and Wednesday, January 31, 2001, 8 a.m. until business for the day is completed. The CPSAS will convene on Thursday, February 1, 2001, 10 a.m. until business for the day is completed.

ADDRESSES: The work sessions will be held at NMFS Southwest Fisheries Science Center, 8604 La Jolla Shores Drive, La Jolla, CA 92038-0271; (619) 546-7000.

On Tuesday, January 30, 2001, the CPSMT will meet in room A-214; on Wednesday, January 31, 2001, the CPSMT will meet in the small conference room. On Thursday, February 1, 2001, the CPSAS will meet in the large conference room.

Council address: Pacific Fishery Management Council, 2130 SW Fifth Avenue, Suite 224, Portland, OR 97201.

FOR FURTHER INFORMATION CONTACT: Dan Waldeck, Pacific Fishery Management Council; (503) 326-6352.

SUPPLEMENTARY INFORMATION: The primary purpose of these meetings is to continue work on several issues relative to capacity in the finfish limited entry fishery. This work is in response to a Council request for the CPSMT and CPSAS to develop recommendations for a capacity goal for the limited entry fishery and several other capacity-related issues, including transferability of limited entry permits. The CPSMT and CPSAS are scheduled to provide their recommendations to the Council at the April 2001 Council meeting.

Although non-emergency issues not contained in the CPSMT/CPSAS meeting agenda may come before the CPSMT and/or CPSAS for discussion, those issues may not be the subject of formal CPSMT nor CPSAS action during these meetings. CPSMT and/or CPSAS action will be restricted to those issues specifically listed in this document and any issues arising after publication of this document that require emergency action under section 305(c) of the Magnuson-Stevens Act, provided the public has been notified of the CPSMT's and/or CPSAS's intent to take final action to address the emergency.

Special Accommodations

These meetings are physically accessible to people with disabilities. Requests for sign language interpretation or other auxiliary aids should be directed to Ms. Carolyn Porter at (503) 326-6352 at least 5 days prior to the meeting date.

Dated: December 28, 2000.
Valerie Chambers,
Acting Director, Office of Sustainable Fisheries, National Marine Fisheries Service.

[FR Doc. 01-207 Filed 1-3-01; 8:45 am]

BILLING CODE 3510-22-S